ENVIRONMENTAL PROTECTION AGENCY

40 CFR Parts 136 and 141

[Docket Number OW-2003-0070; FRL-7873-3]

[RIN 2040-AD71]

Guidelines Establishing Test Procedures for the Analysis of Pollutants Under the Clean Water Act; National Primary Drinking Water Regulations; Notice of Data Availability

AGENCY: Environmental Protection Agency (EPA).

ACTION: Notice of data availability.

SUMMARY: On April 6, 2004, EPA proposed to approve a number of new analytical methods for measuring pollutants in wastewater and drinking water, and proposed to withdraw approval of Syngenta Method AG-625 for determination of atrazine by immunoassay. Today's action announces the availability of new data regarding these changes, and updates to three proposed methods. EPA is soliciting comment only on the data and methods updates cited in today's notice.

DATES: Comments must be postmarked, delivered by hand, or electronically mailed on or before March 18, 2005. Comments provided electronically will be considered timely if they are submitted electronically by 11:59 p.m. Eastern Standard Time on March 18, 2005.

ADDRESSES: Comments may be submitted by mail to Water Docket, U.S. Environmental Protection Agency (4101T), 1200 Pennsylvania Avenue, NW., Washington DC 20460, or electronically through EPA Dockets at http://www.epa.gov/edocket/, Attention Docket ID No. OW-2003-0070. See Subsection C of the SUPPLEMENTARY INFORMATION section for additional ways to submit comments and more detailed instructions.

FOR FURTHER INFORMATION CONTACT: For information regarding the proposed changes to wastewater methods, contact Marion Kelly, Engineering and Analysis Division (4303T), USEPA Office of Science and Technology, 1200 Pennsylvania Ave., NW., Washington, DC 20460, (202) 566-1045 (e-mail: Kelly.Marion@epa.gov). For information regarding the proposed changes to drinking water methods, contact Herbert J. Brass, Technical Support Center (MC 140), USEPA, Office of Ground Water and Drinking Water, 26 West Martin Luther King Drive, Cincinnati, OH 45268, (513) 569-7936 (e-mail: Brass.Herb@epa.gov).

I. General Information

A. How Can I Get Copies of This Document and Other Related Information?

1. Docket. EPA has established an official public docket for this action under Docket ID No. OW-2003-0070. The official public docket consists of the documents specifically referenced in this action, any public comments received, and other information related to this action. Although part of the official docket, the public docket does not include Confidential Business Information (CBI) or other information whose disclosure is restricted by statute. The official public docket is the collection of materials that is available for public viewing at the Water Docket in the EPA Docket Center, EPA West Building, Room B102, 1301 Constitution Avenue, NW., Washington, DC. The EPA Docket Center Public Reading Room is open from 8:30 a.m. to 4:30 p.m., Monday through Friday, excluding legal holidays. The telephone number for the Public Reading Room is (202) 566-1744, and the telephone number for the Water Docket is (202) 566-2426. For access to docket materials, please call ahead to schedule an appointment. Every user is entitled to copy 93 pages per day before incurring a charge. The Docket may charge 15 cents per page for each page over the page limit plus an administrative fee of $14.00.

2. Electronic Access. You may access this Federal Register document electronically through the Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, or to access those documents in the public docket that are available electronically. Once in the system, select “search,” then key in the appropriate docket identification number.

Certain types of information will not be placed in EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section B.1.

For public commenters, it is important to note that EPA's policy is that public comments, whether submitted electronically or in paper, will be made available for public viewing in EPA's electronic public docket as EPA receives them and without change, unless the comment contains copyrighted material, CBI, or other information for which disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in Docket ID No. OW-2003-0070. The system is an “anonymous access” system, which means EPA will not know your identity, e-mail address, or other contact information unless you provide it in the body of your comment.

ii. E-mail. Comments may be sent by electronic mail (e-mail) to: OW-docket@epamail.epa.gov, Attention Docket ID No. OW-2003-0070. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section B.2. These electronic submissions will be accepted in WordPerfect or ASCII file format. Avoid the use of special characters and any form of encryption.

2. By Mail. Send an original and three copies of your comments to Water Docket, U.S. Environmental Protection Agency (4101T), 1200 Pennsylvania Avenue, NW., Washington, DC 20460, Attention Docket ID No. OW-2003-0070.

3. By Hand Delivery or Courier. Deliver your comments to the Water Docket in the EPA Water Center, EPA West Building, Room B102, 1301 Constitution Avenue, NW., Washington, DC, Attention Docket ID No. OW-2003-0070. Such deliveries are only accepted during the Docket's normal hours of operation as identified in section A.1.

C. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark on the outside of the disk or CD ROM clearly that it does not contain CBI. Information not marked as CBI will be included in the public docket and EPA's electronic public docket without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you made.

3. Provide any technical information and/or data you used that support your views.

4. If you estimate potential burden or costs, explain how you arrived at your estimate.

5. Provide specific examples to illustrate your concerns.

6. Offer alternatives.

7. Make sure to submit your comments by the comment period deadline.

8. To ensure proper receipt by EPA, identify the appropriate docket identification number in the subject line on the first page of your response. It would also be helpful if you provided the name, date, and Federal Register citation related to your comments.

II. Summary of New Information

On April 6, 2004, EPA proposed the approval of new methods for National Pollutant Discharge Elimination System (NPDES) monitoring, and National Primary Drinking Water Regulations (NPDWR) compliance monitoring, at 40 CFR parts 136 and 141, respectively (69 FR 18166). In this same proposal, EPA proposed to withdraw approval of Syngenta Method AG-625 for determination of atrazine by immunoassay in drinking water at 40 CFR part 141. Today, EPA is providing notice of additional information and data regarding the proposal. EPA is also announcing recent additions to the Docket regarding EPA evaluations of atrazine immunoassay kits. Lastly, today's notice includes revised versions of three methods that were proposed for approval. These versions are similar to the proposed versions, but contain some changes to quality control and procedural requirements.

EPA is soliciting comment only on the additional information and data cited in this notice and the updated revisions of the proposed methods described below. EPA is not requesting comment on other methods or on other aspects of the April 6, 2004, proposal.

A. Available Data

EPA received additional analytical and cost data, references to journal articles, and study reports regarding a number of the proposed changes to analytical methods. EPA has placed this data and information and other relevant information in the docket for this rule. Today's notice solicits comment on these data and information.

1. NPDES Data

EPA received data and information on cyanide methods in comments OW-2003-0070-234, 237, 272, 314, 315, and 319. After the close of the comment period, EPA received additional data regarding the use of the proposed MICRO DIST cyanide method in recovering particulate cyanide. EPA has added these data to the docket as document numbers OW-2003-0070-0351, 0352, 0353, and will consider them together with the data received during the comment period.

EPA also received data and information regarding total Kjeldahl nitrogen (TKN) analyses (OW-2003-0070-272, 327); mercury methods (OW-2003-0070-246, 284, and 320); total suspended solids methods (OW-2003-0070-226); Microtox (OW-2003-0070-260, 263, 265, 280, 292, 294, 297, 307, 311, 329); EPA Method 624 (OW-2003-0070-274); Waters Method D6508, Rev. 2 (OW-2003-0070-300); updated versions of currently-approved EPA Methods (OW-2003-0070-272, 288); and metals sampling methods (OW-2003-0070-295).

2. NPDWR Data

Some of the data and information listed above regarding cyanide methods (OW-2003-0070-234, 237, 272) and Waters Method D6508, Rev. 2 (OW-2003-0070-300) are also applicable to proposed NPDWR methods. EPA also received data and information in comments regarding the withdrawal of Syngenta Method AG-625 (OW-2003-0070-291, 317). After the close of the comment period, EPA also received a pre-publication version of an American Water Works Association (AWWA) journal article that evaluated the performance of Syngenta AG-625 (OW-2003-0070-0355), correspondence from AWWA and Syngenta (OW-2003-0070-0354, 357); data generated by Dr. Craig Adams (under a project sponsored by AWWA) using atrazine test kits, (OW-2003-0070-0347); and a final report from Syngenta regarding Method AG-625 that contains data generated by using a modified atrazine test kit, for the method, distributed by Beacon Analytical (OW-2003-0070-356). An interim version of this final report was submitted during the comment period for the April 2004 proposed rule.

In addition, EPA added a series of reports and summaries regarding the evaluation of atrazine immunoassay test kits by EPA's Environmental Technology Verification (ETV) Program. Kits that EPA evaluated include the Abraxis, LLC Atrazine ELISA Kit (OW-2003-0070-0339,0343); Beacon Analytical Systems, Inc. Atrazine Tube Kit (OW-2003-0070-0340, 0344); Silver Lake Research, Corp. Watersafe® Pesticide Kit (OW-2003-0070-0342, 0346); and, Strategic Diagnostics RaPID Assay® Kit (OW-2003-0070-0341, 0345).

EPA will evaluate the above information relative to the Agency's proposed withdrawal of Syngenta Method AG-625 and will assess the effectiveness of the modified test kit (i.e., the effectiveness of that kit in eliminating the method interference that prompted the proposed withdrawal of Method AG-625). Based upon that evaluation, and based on its review of comments pursuant to this notice, EPA may approve the use of the alternative kit via the final rule. EPA invites comments on the extent to which the new information supports the withdrawal of Method AG-625 or the approval of a modified method using the alternative kit.

B. Revised Methods

In the April 6, 2004, proposal, EPA proposed changes to approved analytical methods for use in Clean Water Act and Safe Drinking Water Act programs. The proposed changes included methods that employ new technologies and updated versions of previously approved methods. Among these changes, EPA proposed to approve a number of ASTM International methods, including ASTM Method D6888-03 for determining available cyanide in wastewater and drinking water, ASTM Method D5673-02 for determining various metals in wastewater, and ASTM Method D4658-92 for determining sulfide in wastewater. Since publication of the proposal, EPA has received revised versions of these three methods and has added them to the docket for public comment: (1) D6888-04 Standard Test Method for Available Cyanide with Ligand Displacement and Flow Injection Analysis (FIA) Utilizing Gas Diffusion Separation and Amperometric Detection (an update of proposed version: D6888-03); (2) D5673-03 Standard Test Method for Elements in Water by Inductively Coupled Plasma—Mass Spectrometry (an update of proposed version: D5673-02); and (3) D4658-03 Standard Test Method for Sulfide Ion in Water (and update of proposed version: D4658-92(1996)). Method D6888-04 contains a new on-line sulfide removal procedure, and Methods D5673-03 and D4658-03 have added standardized quality control requirements and criteria. The methods added to the Docket represent refinements to the proposed versions, and are not significant variations of those versions. EPA may promulgate some or all of these revised versions in a final rule, and requests comment on each. These methods are included in the docket at OW-2003-0070-0348, 0349, 0350), respectively, and may be ordered from ASTM International, 100 Barr Harbor Drive, P.O. Box C700, West Conshohocken, PA 19428-2959, United States, or at http://www.astm.org.

In the April 6, 2004 proposal, EPA proposed a method for the measurement of Radium-226 and Radium-228 by Gamma Spectroscopy in drinking water. This method has been modified in several ways and EPA seeks comment on these modifications. The changes to the method include the following: correction of minor typographical errors, minor editorial changes such as the addition of chemical abstract numbers for Radium-226 and Radium-228; the addition of a description of the dangers regarding the use of diethyl ether; minor changes to the equations for activity, detection limit, and uncertainty made as a result of public comment; minor changes to the QC section of the method; the addition of a description of “mixed wastes” (i.e., waste that contains both hazardous waste and radioactive waste); and the addition of a reference to ASTM added to describe Type 2 Reagent Water.

In the April 6, 2004 proposal, EPA concluded that the proposed rule would not have a significant economic impact on a substantial number of small entities (69 FR 18188). Adoption of the refinement to the three methods for which EPA is requesting comment today would not change the Agency's decision to certify the proposal under the Regulatory Flexibility Act. In addition, as explained above, Methods D6888-04, D5673-03 and D4658-03, like the earlier proposed versions of these methods, represent methods from voluntary consensus standards bodies. Section 12(d) of the National Technology Transfer and Advancement Act of 1995 directs EPA to use voluntary standards in its regulatory activities as discussed in more detail in the proposal at 69 FR 18189-18190.

Dated: February 9, 2005.
Benjamin H. Grumbles,
Assistant Administrator, Office of Water.

[FR Doc. 05-2988 Filed 2-15-05; 8:45 am]

BILLING CODE 6560-50-P